DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Texas Mexican Railway Company

[Waiver Petition Docket Number FRA-2000-7040]

The Texas Mexican Railway Company (TM) seeks a permanent waiver of compliance from certain provisions of the Safety Appliances Standards, 49 CFR part 231, and the Power Brakes and Drawbars regulations, 49 CFR part 232, concerning RoadRailer® train operations over their railroad system. Specifically, TM requests relief from the requirements of 49 CFR part 231, which specifies the number, location and dimensional specifications for handholds, ladders, sill steps, uncoupling levers, and handbrakes; and § 232.2, which regulates drawbar height.

TM would like to begin operations of RoadRailer® equipment over its system in connection with the Burlington Northern Santa Fe Railway (BNSF) and/or the Kansas City Southern Railroad to and from interchange with the Transportation Ferroviaria Mexicana at Laredo, Texas, with movement of the equipment between interchange points at Beaumont, Houston, or Corpus Christi, Texas. TM requests that FRA consider this waiver under the same conditions as granted to BNSF under Docket Number FRA 1999-5895.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-5894) and must be submitted to the Docket Clerk, DOT Docket Management Facility, Room PL-401 (Plaza Level), 400 7th Street, SW, Washington, DC 20590. Communications received within 15 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's web site at http://dms.dot.gov.

Issued in Washington, DC, on May 9, 2000.
Michael J. Logue,
Deputy Associate Administrator for Safety Compliance and Program Implementation.

[FR Doc. 00-12313 Filed 5-15-00; 8:45 am]

BILLING CODE 4910-06-P